COMMISSION ON CIVIL RIGHTS

Agenda and Notice of Public Meeting of the Vermont Advisory Committee

Notice is hereby given, pursuant to the provisions of the rules and regulations of the U.S. Commission on Civil Rights (Commission), and the Federal Advisory Committee Act (FACA), that briefing and planning meetings of the Vermont Advisory Committee to the Commission will convene at 12 p.m. on Thursday, July 17, 2008, at the State House, Room 11, 115 State Street, Montpelier, Vermont 05633. The purpose of the briefing meeting is for the committee to hear presentations from public officials and community groups on racial profiling in Vermont. After the briefing meeting, the Committee will hold its planning meeting to plan future activities.

Members of the public are entitled to submit written comments; the comments must be received in the regional office by July 31, 2008. The address is the Eastern Regional Office, 624 9th Street NW., Suite 740, Washington, DC 20425. Persons wishing to e-mail their comments, or who desire additional information should contact Alfreda Greene, Secretary, at 202-376-7533 or by e-mail to: agreene@usccr.gov.

Hearing-impaired persons who will attend the meetings and require the services of a sign language interpreter should contact the Regional Office at least ten (10) working days before the scheduled date of the meetings.

Records generated from these meetings may be inspected and reproduced at the Eastern Regional Office, as they become available, both before and after the meetings. Persons interested in the work of this advisory committee are advised to go to the Commission's Web site, http://www.usccr.gov, or to contact the Eastern Regional Office at the above e-mail or street address.

The meetings will be conducted pursuant to the provisions of the rules and regulations of the Commission and FACA.

Dated in Washington, DC, June 27, 2008.
Christopher Byrnes,
Chief, Regional Programs Coordination Unit.

[FR Doc. E8-15001 Filed 7-1-08; 8:45 am]

BILLING CODE 6335-01-P